DEPARTMENT OF ENERGY

Federal Energy Regulatory Commission

[Project No. 2067-019]

Notice of Application for Non-Project Use of Project Lands and Soliciting Comments, Motions To Intervene, and Protests

October 8, 2002.

Take notice that the following application has been filed with the Commission and is available for public inspection:

a. Application Type: Non-Project Use of Project Lands.

b. Project No: 2067-019.

c. Date Filed: September 24, 2002.

d. Applicant: Oakdale & San Joaquin Irrigation Districts.

e. Name of Project: Tulloch.

f. Location: The project is located on the Stanislaus River, in Calavaras Counties, California.

g. Filed Pursuant to: Federal Power Act, 16 U.S.C. 791 (a) 825(r) and § § 799 and 801.

h. Applicant Contact: Steve Felte, General Manager, Tri-Dam Project, PO Box 1158, Pinecrest, California 95364, (209) 965-3996.

i. FERC Contact: Any questions on this notice should be addressed to Mrs. Jean Potvin at (202) 502-8928, or e-mail address: jean.potvin@ferc.gov.

j. Deadline for filing comments and or motions: November 8, 2002.

All documents (original and eight copies) should be filed with: Ms. Magalie Roman Salas, Secretary, Federal Energy Regulatory Commission, 888 First Street, NE., Washington DC 20426. Please include the project number (P-2067-019) on any comments or motions filed. Comments, protests, and interventions may be filed electronically via the internet in lieu of paper. See, 18 CFR 385.2001(a)(1)(iii) and the instructions on the Commission's Web site under the “e-Filing” link. The Commission strongly encourages e-filings.

k. Description of Request: The licensee proposes to permit those elements of a commercial business proposed by Merle & Beverly Holman (permittee) that would be located within the project boundary. The elements of the development that would occupy project lands include: a waterfront park with shade trees, lawn, picnic tables and barbeques; a 16-slip marina; a kayak & cartop boat launch pier; a rock retaining wall (existing) at elevation 511′ to elevation 518′; a 6-foot-wide sidewalk along the lakefront, at the top of the existing rock wall, at elevation 511′; and a handicap access ramp from elevation 518′ down to the docks at elevation 511′. Outside of the project boundary but in the conjunction with this development, the permitte plans on building a parking lot for 36 vehicles and a building housing an office and public restrooms.

l. Location of the Application: This filing is available for review at the Commission in the Public Reference Room , located at 888 First Street, NE., Room 2A, Washington, DC 20426, or may be viewed on the Commission's Web site at http://www.ferc.gov using the “FERRIS” link. Enter the docket number excluding the last three digits in the docket number field to access the document. For assistance, please call the Helpline at (202) 502-8222 or contact ferconlinesupport@ferc.gov. For TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-26081 Filed 10-11-02; 8:45 am]

BILLING CODE 6717-01-P